DEPARTMENT OF HOMELAND SECURITY

Office of the Secretary

[Docket No. DHS-2005-0043]

Open Meeting of National Infrastructure Advisory Council (NIAC); Correction

AGENCY: Directorate of Information Analysis and Infrastructure Protection, DHS.

ACTION: Notice of meeting; correction.

SUMMARY: The Department of Homeland Security published a document in the Federal Register of June 27, 2005, concerning the National Infrastructure Advisory Council (NIAC) meeting on Tuesday, July 12, 2005. The time has changed for the meeting.

FOR FURTHER INFORMATION CONTACT: Nancy J. Wong, NIAC Designated Federal Official, telephone 703-235-5352.

Correction

In the Federal Register of June 27, 2005, in FR Doc. 05-12752, on page 36941, in the third column, correct the DATES caption to read:

DATES: The National Infrastructure Advisory Council (NIAC) will meet on Tuesday, July 12, 2005, from 9:30 a.m. to 12:30 p.m. at the National Press Club in Washington DC.

Dated: June 30, 2005.
David Houser,
Federal Register Certification Official.

[FR Doc. 05-13217 Filed 7-1-05; 8:45 am]

BILLING CODE 4410-10-P